DEPARTMENT OF JUSTICE

Antitrust Division

Notice Pursuant to the National Cooperative Research and Production Act of 1993—National Center for Manufacturing Sciences, Inc.

Notice is hereby given that, on December 3, 2002, pursuant to Section 6(a) of the National Cooperative Research and Production Act of 1993, 15 U.S.C. 4301 et seq. (“the Act”), the National Center for Manufacturing Sciences, Inc. (“NCMS”) has filed written notifications simultaneously with the Attorney General and the Federal Trade Commission disclosing changes in its membership status. The notifications were filed for the purpose of extending the Act's provisions limiting the recovery of antitrust plaintiffs to actual damages under specified circumstances. Specifically, Eclypse International Corporation, Corona, CA; General Lasertronics Corporation, San Jose CA; IMES, Inc., Norwell, MA; Pennsylvania State University, State College, PA; and the Aerostructures Corporation, Nashville, TN have been added as parties to this venture. Also, Concentus Technology Corporation, Dublin, OH has resigned or has had their membership in NCMS terminated.

No other changes have been made in either the membership or planned activity of the group research project. Membership in this group research project remains open, and NCMS intends to file additional written notification disclosing all changes in membership.

On February 20, 1987, NCMS filed its original notification pursuant to Section 6(a) of the Act. The Department of Justice published a notice in the Federal Register pursuant to Section 6(b) of the Act on March 17, 1987 (52 FR 8375).

The last notification was filed with the Department on August 28, 2002. A notice was published in the Federal Register pursuant to Section 6(b) of the Act on October 8, 2002 (67 FR 62816).

Constance K. Robinson,
Director of Operations Antitrust Division.

[FR Doc. 02-32635 Filed 12-26-02; 8:45 am]

BILLING CODE 4410-11-M